INTERNATIONAL TRADE COMMISSION

[Investigation No. 332-345]

Shifts in U.S. Merchandise Trade in 2000

AGENCY: United States International Trade Commission.

EFFECTIVE DATE: September 8, 2000.

ACTION: Opportunity to submit written statements in connection with the 2000 report.

SUMMARY: The Commission has prepared and published annual reports on U.S. trade shifts in selected industries/commodity areas under investigation No. 332-345 since 1993. The Commission plans to publish the 2000 report in August 2001, which will cover shifts in U.S. trade in 2000 compared with trade in 1999.

The report structure and content is anticipated to be similar to the 1999 report issued in September 2000. Comments and suggestions regarding the August 2001 report are welcome in written submissions as specified below. The latest version of the report covering 1999 data (USITC Publication 3353, September 2000) may be obtained from the USITC's Internet server (http://www.usitc.gov). A printed report may be requested by contacting the Office of the Secretary at 202-205-2000 or by fax at 202-205-2104.

FOR FURTHER INFORMATION CONTACT: Questions about the trade shifts report may be directed to the project leader, Mr. Karl Tsuji, Office of Industries (202-205-3434) or the assistant project leader, Ms. Linda White, Office of Industries (202-205-3427). For information on the legal aspects, please contact Mr. William Gearhart, Office of General Counsel (202-205-3091). The media should contact Ms. Margaret O'Laughlin, Public Affairs Officer (202-205-1819). Hearing impaired individuals are advised that information on this matter can be obtained by contacting the TDD terminal on (202-205-1810).

Background: The initial notice of institution of this investigation was published in the Federal Register of September 8, 1993 (58 F.R. 47287). The Commission expanded the scope of this investigation to cover services trade in a separate report, which it announced in a notice published in the Federal Register of December 28, 1994 (59 F.R. 66974). The merchandise trade report has been published in the current series under investigation No. 332-345 annually since September 1993. As in past years, each report will summarize and provide analyses of the major trade developments that occurred in the preceding year. The reports will also provide summary trade information and basic statistical profiles of about 250 industry/commodity groups.

Written Submissions: No public hearing is planned. However, interested persons are invited to submit written comments or suggestions concerning the August 2001 report. Commercial or financial information which a submitter desires the Commission to treat as confidential must be provided on separate sheets of paper, each clearly marked “Confidential Business Information” at the top. All submissions requesting confidential treatment must conform with the requirements of section 201.6 of the Commission's Rules and Practice and Procedure (19 CFR 201.6). All written submissions, except for confidential business information, will be made available in the Office of the Secretary of the Commission for inspection by interested persons. To be assured of consideration by the Commission, written statements relating to the Commission's report should be submitted to the Commission at the earliest practical date and should be received no later than the close of business on December 29, 2000. All submissions should be addressed to the Secretary, United States International Trade Commission, 500 E Street, SW, Washington, DC 20436.

Issued: September 19, 2000.
By order of the Commission.
Donna R. Koehnke,
Secretary.

[FR Doc. 00-24814 Filed 9-26-00; 8:45 am]

BILLING CODE 7020-02-P